DEPARTMENT OF DEFENSE

Department of the Navy

Privacy Act of 1974; System of Records

AGENCY: Department of the Navy, DoD.

ACTION: Notice to alter a system of records.

SUMMARY: The Department of the Navy proposes to alter a system of records notice in its existing inventory of records systems subject to the Privacy Act of 1974, (5 U.S.C. 552), as amended.

DATES: This proposed action will be effective without further notice on October 19, 2005 unless comments are received which result in a contrary determination.

ADDRESSES: Send comments to the Department of the Navy, PA/FOIA Policy Branch, Chief of Naval Operations (DNS-36), 2000 Navy Pentagon, Washington, DC 20350-2000.

FOR FURTHER INFORMATION CONTACT: Mrs. Doris Lama at (202) 685-325-6545.

SUPPLEMENTARY INFORMATION: The Department of the Navy's systems of records notices subject to the Privacy Act of 1974, (5 U.S.C. 552a), as amended, have been published in the Federal Register and are available from the address above.

The proposed system reports, as required by 5 U.S.C. 552a(r), of the Privacy Act of 1974, as amended, were submitted on September 7, 2005, to the House Committee on Government Reform, the Senate Committee on Homeland Security and Governmental Affairs, and the Office of Management and Budget (OMB) pursuant to paragraph 4c of Appendix I to OMB Circular No. A-130, ‘Federal Agency Responsibilities for Maintaining records About Individuals,’ dated February 8, 1996 (February 20, 1996, 61 FR 6427).

Dated: September 12, 2005.
L.M. Bynum,
Alternate OSD Federal Register Liaison Officer, Department of Defense.

NM01500-9

System Name:

Integrated Learning Environment (ILE) Registration and Training Records (July 6, 2005, 70 FR 38896).

Changes:

* * * * *

Categories of individuals covered by the system:

Delete entry and replace with: “All uninformed service members, civilian, and contractor personnel having a Common Access Card (CAC) or Military ID Card; dependent family members of Navy, Marine Corps and Coast Guard military members (active duty and reserve); and, Non-Appropriated Fund personnel who are granted limited access for job performance requirements.”

Categories of records in the system:

Delete entry and replace with “Name, home address, telephone numbers, Social Security Number (SSN), date of birth, unique personal identifier number assigned to individual, pay plan/grade, rank, occupation, Unit Identification Code (UIC), military status, individualized training plan, and course progress of individuals who register to take classes offered under Navy Knowledge On-Line.”

Authority for maintenance of the system:

At beginning of entry, add “5 U.S.C. 301, Departmental Regulations;”

* * * * *

NM01500-9

System name:

Integrated Learning Environment (ILE) Classes.

System Location:

Naval Education Training Professional Development Technology Center (NETPDTC), Saufley Field, FL 32509-5337.

Categories of individuals covered by the system:

All uniformed service members, civilian, and contractor personnel having a valid Common Access Card (CAC) or Military ID Card; dependent family members of Navy, Marine Corps and Coast Guard military members (active duty and reserve); and, Non-Appropriated Fund personnel who are granted limited access for job performance requirements.

Categories of records in the system:

Name, home address, telephone numbers, Social Security Number (SSN), date of birth, unique personal identifier number assigned to individual, pay plan/grade, rank, occupation, Unit Identification Code (UIC), military status, individualized training plan, and course progress of individuals who register to take classes offered under Navy Knowledge On-Line.

Authority for maintenance of the system:

5 U.S.C. 301, Departmental Regulations; 10 U.S.C. 5013, Secretary of the Navy; 10 U.S.C. 5041, Headquarters, Marine Corps; 14 U.S.C. 93, Commandant, U.S. Coast Guard General Power; and E.O. 9397 (SSN).

Purpose(s):

The purpose of this system is to identify individuals who enroll and take computerized training courses offered through the Navy's Integrated Learning Environment (ILE). Each user will be able to create an individualized training plan, complete Web-based training courses and track their course progress.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ that appear at the beginning of the Navy's compilation of systems of records notices apply to this system.

Policies and practices for storing, retrieving, accessing, retraining, and disposing of records in the system:

Storage:

Records are maintained on electronic storage media.

Retrievability:

Records are retrieved by name, Social Security Number (SSN) and date of birth.

Safeguards:

Access is provided on a ‘need-to-know’ basis and to authorized authenticated personnel only. Records are maintained in controlled access rooms or areas. Data is limited to personnel training information. Computer terminal access is controlled by terminal identification and the password or similar system. Terminal identification is positive and maintained by control points. Physical access to terminals is restricted to specifically authorized individuals. Password authorization, assignment and monitoring are the responsibility of the functional managers.

Retention and disposal:

Records are maintained permanently.

System manager(s) and address:

Commander, Naval Education and Training Command, 250 Dallas Street, Pensacola, FL 32508-5220.

Notification procedure:

Individuals seeking to determine whether this system of records contains information about themselves system of records should address written inquiries to the Commander, Naval Education and Training Command (ATTN: ILE Program Manager), 250 Dallas Street, Pensacola, FL 32508-5220.

Requests should contain full name, address, Social Security Number (SSN) and be signed.

Record access procedures:

Individuals seeking access to records about themselves contained in this system of records should address written inquiries to the Commander, Naval Education and Training Command (ATTN: ILE Program Manager), 250 Dallas Street, Pensacola, FL 32508.

Requests should contain full name, address, Social Security Number (SSN) and be signed.

Contesting record procedures:

The Navy's rules for accessing records, and for contesting contents and appealing initial agency determinations are published in Secretary of the Navy Instruction 5211.5; 32 CFR part 701; or may be obtained from the system manager.

Record source categories:

Information is obtained from Individual; Navy Knowledge On-Line clearance; schools and educational institutions; Navy Personnel Command; and Naval Education and Training Command.

Exemptions claimed for the system:

None.

[FR Doc. 05-18563 Filed 9-16-05; 8:45 am]

BILLING CODE 5001-06-M